DEPARTMENT OF COMMERCE

National Oceanic and Atmospheric Administration

RIN 0648-XF592

Marine Mammals; File No. 21158-02

AGENCY: National Marine Fisheries Service (NMFS), National Oceanic and Atmospheric Administration (NOAA), Commerce.

ACTION: Notice; receipt of application for permit amendment.

SUMMARY: Notice is hereby given that Robert Garrott, Ph.D., Montana State University, 310 Lewis Hall, Bozeman, MT 59717, has applied for an amendment to Scientific Research Permit No. 21158-01.

DATES: Written, telefaxed, or email comments must be received on or before May 16, 2018.

ADDRESSES: The application and related documents are available for review by selecting “Records Open for Public Comment” from the “Features” box on the Applications and Permits for Protected Species home page, https://apps.nmfs.noaa.gov, and then selecting File No. 21158 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Sara Young or Carrie Hubard, (301) 427-8401.

SUPPLEMENTARY INFORMATION: The subject amendment to Permit No. 21158-01 is requested under the authority of the Marine Mammal Protection Act of 1972, as amended (16 U.S.C. 1361 et seq.) and the regulations governing the taking and importing of marine mammals (50 CFR part 216).

Permit No. 21158, issued on September 25, 2017 (82 FR 48985; October 23, 2017), authorizes the permit holder to continue long-term studies of the Erebus Bay, Antarctica, Weddell seal (Leptonychotes weddellii) population to evaluate how temporal variation in the marine environment affects individual life histories and the population dynamics of long-lived mammal. The permit holder is requesting the permit be amended to increase take numbers for Weddell seals due to a population boom observed by their long-term research. We issued a major amendment on (83 FR 7166; February 20, 2018) to increase take for the 2017-18 field season to allow researchers to continue their work, increasing take of pups from 675 to 1,000 for one field season only. However, due to the population boom, the permit holder is requesting an increase of take by 35 percent to all life stages. The amendment would increase: Pups tagged from 515 to 800, pups retagged due to lost tags from 10 to 20, tagging adults from 285 to 385, adults harassed for tag reading from 1325 to 1800, and number of pups harassed from tag reading from 675 to 910, annually. The permit holder would also like to increase the number of carcasses salvaged from 10 to 35. The permit expires on September 30, 2022.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: April 11, 2018.
Julia Harrison,
Chief, Permits and Conservation Division, Office of Protected Resources, National Marine Fisheries Service.

[FR Doc. 2018-07834 Filed 4-13-18; 8:45 am]

BILLING CODE 3510-22-P